FEDERAL COMMUNICATIONS COMMISSION

47 CFR Part 73

[MB Docket No. 16-29, RM-11758; DA 16-139]

Television Broadcasting Services; Scottsbluff, Nebraska and Sidney, Nebraska

AGENCY: Federal Communications Commission.

ACTION: Proposed rule.

SUMMARY: The Commission has before it a petition for rulemaking filed by Gray Television License, LLC, proposed assignee of KDUH-TV, Scottsbluff, Nebraska and New Rushmore Radio, Inc., the licensee of station KDUH-TV, channel 7, Scottsbluff, Nebraska (collectively “Petitioners”), requesting an amendment of the DTV Table of Allotments to delete channel 7 at Scottsbluff and substitute channel 7 at Sidney, Nebraska. While the Commission instituted a freeze on the acceptance of full power television rulemaking petitions requesting channel substitutions in May 2011, Petitioners are seeking a waiver asserting that because the proposed change in community of license does not involve any proposed change in technical facilities, grant of the petition would not impact on the Post-Transition Table of DTV Allotments. Petitioners believe that a waiver here would serve the public interest and that community in Sidney would remain well-served after reallotment.

DATES: Comments must be filed on or before March 21, 2016, and reply comments on or before April 4, 2016.

ADDRESSES: Federal Communications Commission, Office of the Secretary, 445 12th Street SW., Washington, DC 20554. In addition to filing comments with the FCC, interested parties should serve counsel for petitioner as follows: Gray Television Licensee, LLC, c/o Cooley LLP, John R. Feore, Jr. Esq. and Derek Teslik, Esq., 1299 Pennsylvania Avenue NW., Suite 700, Washington, DC 20004; New Rushmore Radio Inc., c/o Law Office of Jack N. Goodman, Jack N. Goodman, Esq., 1200 New Hampshire Ave. NW., Suite 600, Washington, DC 20036.

FOR FURTHER INFORMATION CONTACT: Adrienne Y. Denysyk, adrienne.denysyk@fcc.gov, Media Bureau, (202) 418-2561.

SUPPLEMENTARY INFORMATION: This is a synopsis of the Commission's Notice of Proposed Rule Making, MB Docket No. 16-29, adopted February 8, 2016, and released February 8, 2016. The full text of this document is available for public inspection and copying during normal business hours in the FCC's Reference Information Center at Portals II, CY-A257, 445 12th Street SW., Washington, DC 20554. This document will also be available via ECFS (http://www.fcc.gov/cgb/ecfs/). (Documents will be available electronically in ASCII, Word 97, and/or Adobe Acrobat.). To request this document in accessible formats (computer diskettes, large print, audio recording, and Braille), send an email to fcc504@fcc.gov or call the Commission's Consumer and Governmental Affairs Bureau at (202) 418-0530 (voice), (202) 418-0432 (TTY). This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts (other than ex parte presentations exempt under 47 CFR 1.1204(a)) are prohibited in Commission proceedings, such as this one, which involve channel allotments. See 47 CFR 1.1208 for rules governing restricted proceedings.

For information regarding proper filing procedures for comments, see 47 CFR 1.415 and 1.420.

List of Subjects in 47 CFR Part 73

Television.

Federal Communications Commission.
Thomas Horan,
Chief of Staff, Media Bureau.

Proposed Rules

For the reasons discussed in the preamble, the Federal Communications Commission proposes to amend 47 CFR part 73 as follows:

PART 73—RADIO BROADCAST SERVICES

1. The authority citation for Part 73 continues to read as follows:

Authority: 47 U.S.C. 154, 303, 334, 336, and 339.

§ 73.622 [Amended]

2. Section 73.622(i), the Post-Transition Table of DTV Allotments under Nebraska is amended by removing channel 7 at Scottsbluff.

3. Section 73.622(i), the Post-Transition Table of DTV Allotments under Nebraska is amended by adding Sidney.

4. Section 73.622(i), the Post-Transition Table of DTV allotments under Nebraska is amended by adding channel 7 at Sidney.

[FR Doc. 2016-03345 Filed 2-17-16; 8:45 am]

BILLING CODE 6712-01-P